DEPARTMENT OF THE INTERIOR

Bureau of Land Management

[COF000-LLCOF00000-L18200000-XX0000]

Notice of Meetings, Front Range Resource Advisory Council

AGENCY: Bureau of Land Management, Interior.

ACTION: Notice of Public Meetings.

SUMMARY: In accordance with the Federal Land Policy and Management Act (FLPMA) and the Federal Advisory Committee Act of 1972 (FACA), the U.S. Department of the Interior, Bureau of Land Management (BLM) Front Range Resource Advisory Council (RAC), will meet as indicated below.

DATES: The Front Range RAC has scheduled meetings on:

1. April 27, 2011, 9:15 a.m. to 4:30 p.m.

2. July 20, 2011, 9:15 a.m. to 4:30 p.m.

3. October 19, 2011, 9:15 a.m. to 4:30 p.m.

ADDRESSES: The locations for the meetings are:

1. April 27, 2011; BLM Royal Gorge Field Office, 3028 East Main Street, Canon City, CO.

2. July 20, 2011; Hampton Inn, 710 Mariposa St., Alamosa, CO.

3. October 19, 2011; BLM Royal Gorge Field Office, 3028 East Main Street, Canon City, CO.

FOR FURTHER INFORMATION CONTACT: Cass Cairns, Front Range RAC Coordinator, BLM Royal Gorge Field Office, 3028 E. Main St., Cañon City, CO 81212. Phone: (719) 269-8553. E-mail: ccairns@blm.gov.

SUPPLEMENTARY INFORMATION: The 15-member Council advises the Secretary of the Interior, through the BLM, on a variety of planning and management issues associated with public land management in the BLM Front Range District, which includes the Royal Gorge Field Office and the San Luis Valley Public Lands Center and its respective field offices: Saguache Field Office, Del Norte Field Office, and La Jara Field Office, Colorado. Topics of discussion during the Front Range RAC meetings may include land use planning, energy and minerals management, travel management, recreation, grazing and fire management.

All RAC meetings are open to the public. The meetings will begin at 9:15 a.m. The public is invited to make oral comments to the RAC at 9:30 a.m., or may submit written statements during the meeting for the RAC's consideration. Depending on the number of persons wishing to comment and time available, the time for individual oral comments may be limited. Summary minutes for the RAC meetings will be maintained in the Royal Gorge Field Office and will be available for public inspection and reproduction during regular business hours within 30 days following the meeting. Meeting minutes and agenda (10 days prior to each meeting) are also available at: http://www.blm.gov/rac/co/frrac/co_fr.htm.

Dated: March 9, 2011.
Helen M. Hankins,
State Director.

[FR Doc. 2011-6250 Filed 3-16-11; 8:45 am]

BILLING CODE 4310-JB-P